DEPARTMENT OF DEFENSE

Office of the Secretary

Meeting of the Defense Advisory Committee on Women in the Services (DACOWITS)

AGENCY: Department of Defense.

ACTION: Notice.

SUMMARY: The Department of Defense is publishing this notice to announce that the following Federal Advisory Committee meeting of the Defense Advisory Committee on Women in the Services (DACOWITS) will take place. This meeting is open to the public.

DATES: Wednesday, September 9, 2015, from 8:00 a.m. to 12:30 p.m.; Thursday, September 10, 2015, from 8:00 a.m. to 12:00 p.m.

ADDRESSES: Hilton Alexandria—Mark Center, 5000 Seminary Road, Alexandria, VA 22311.

FOR FURTHER INFORMATION CONTACT: Mr. Robert Bowling or DACOWITS Staff at 4800 Mark Center Drive, Suite 04J25-01, Alexandria, Virginia 22350-9000. Robert.d.bowling1.civ@mail.mil. Telephone (703) 697-2122. Fax (703) 614-6233. Any updates to the agenda or any additional information can be found at http://dacowits.defense.gov/.

SUPPLEMENTARY INFORMATION: Pursuant to the Federal Advisory Committee Act of 1972 (5 U.S.C. Appendix, as amended), the Government in the Sunshine Act of 1976 (5 U.S.C. 552b), and Section 10(a), Public Law 92-463, as amended, notice is hereby given of a forthcoming meeting of the Defense Advisory Committee on Women in the Services (DACOWITS).

The purpose of the meeting is for the Committee to receive briefings and updates relating to their current work and vote on their 2015 recommendations. The Designated Federal Officer will give a status update on the Committee's requests for information. The Committee will receive a briefing from OSD Health Affairs on the Services' pregnancy/postpartum policies. The Navy and Coast Guard will give a briefing on the detailing/assignment process for women serving at sea. Additionally, the Committee will receive briefings from the Services on their In-Home Child Care Provider Certification programs. The Army will provide an update on the Army Ranger Assessment. Also, the Committee will propose and vote on their 2015 recommendations. There will also be a public comment period.

Pursuant to 41 CFR 102-3.140, and section 10(a)(3) of the Federal Advisory Committee Act of 1972, interested persons may submit a written statement for consideration by the Defense Advisory Committee on Women in the Services. Individuals submitting a written statement must submit their statement to the point of contact listed at the address in FOR FURTHER INFORMATION CONTACT no later than 5:00 p.m., Tuesday, September 8, 2015. If a written statement is not received by Tuesday, September 8, 2015, prior to the meeting, which is the subject of this notice, then it may not be provided to or considered by the Defense Advisory Committee on Women in the Services until its next open meeting. The Designated Federal Officer will review all timely submissions with the Defense Advisory Committee on Women in the Services Chair and ensure they are provided to the members of the Defense Advisory Committee on Women in the Services. If members of the public are interested in making an oral statement, a written statement should be submitted. After reviewing the written comments, the Chair and the Designated Federal Officer will determine who of the requesting persons will be able to make an oral presentation of their issue during an open portion of this meeting or at a future meeting. Pursuant to 41 CFR 102-3.140(d), determination of who will be making an oral presentation is at the sole discretion of the Committee Chair and the Designated Federal Officer and will depend on time available and if the topics are relevant to the Committee's activities. Two minutes will be allotted to persons desiring to make an oral presentation. Oral presentations by members of the public will be permitted only on Thursday, September 10, 2015 from 8:15 a.m. to 8:45 a.m. in front of the full Committee. The number of oral presentations to be made will depend on the number of requests received from members of the public.

Pursuant to 5 U.S.C. 552b and 41 CFR 102-3.140 through 102-3.165, this meeting is open to the public, subject to the availability of space.

Meeting Agenda

Wednesday, September 9, 2015, from 8:00 a.m. to 12:30 p.m.

—Welcome, Introductions, Announcements

—Request for Information Status Update

—Briefing—Medical Review of the Services' Pregnancy/Postpartum Policies

— Briefings—Detailing/Assignment Process for Women Serving at Sea

—Briefings—Review of In-Home Child Care Provider Certification Programs

— Briefing—Update on Army Ranger Assessment

Thursday, September 10, 2015, from 8:00 a.m. to 12:00 p.m.

—Welcome and Announcements

— Public Comment Period

—Propose and Vote on 2015 Recommendations

Dated: August 17, 2015.
Aaron Siegel,
Alternate OSD Federal Register Liaison Officer, Department of Defense.

[FR Doc. 2015-20650 Filed 8-20-15; 8:45 am]

BILLING CODE 5001-06-P